DEPARTMENT OF TRANSPORTATION

Office of the Secretary

14 CFR Parts 217, 241, 291 and 298

[Docket No. OST 98-4043]

RIN 2139-AA08

Air Carrier Traffic and Capacity Data By Nonstop Segment and On-Flight Market

AGENCY: Office of Secretary, DOT.

ACTION: Final rule.

SUMMARY: The Department of Transportation is modifying the T-100/T-100(f) Traffic Reporting System. For traffic reporting purposes, the distinction between large and small aircraft is removed. All U.S. certificated and commuter air carriers and all foreign air carriers that operate to the United States will report their traffic movements in the T-100/T-100(f) Traffic Reporting System regardless of the size of aircraft used. Joint-service operations will be reported by the operating carrier. This rule modifies the current T-100 Reporting System to require U.S. carriers to report the detailed market and segment information for all their military, domestic all-cargo, and domestic charter flights. The detailed statistics from military operations will be withheld from public disclosure. The submission of Form 41 Supplemental T-1, T-2, and T-3 schedules is eliminated. The Department is requiring U.S. carriers that submit Form 41 financial reports to submit for each reported aircraft type, total aircraft hours, fuel consumed, and aircraft days assigned to service. Currently, there is a lack of market and segment data for domestic all-cargo, domestic charter and small aircraft operations. These changes will eliminate the data gaps for these rapidly growing segments of the air transportation industry.

DATES: This rule will be effective on October 1, 2002.

FOR FURTHER INFORMATION CONTACT: Bernard Stankus or Clay Moritz, Office of Airline Information, K-14, Room 4125, Bureau of Transportation Statistics, Department of Transportation, 400 Seventh Street, SW., Washington, DC, 20590-0001, (202) 366-4387 or 366-4385, respectively. They may also be contacted by e-mail at clay.moritz@bts.gov or bernard.stankus@bts.gov or by fax at (202) 366-3383.

SUPPLEMENTARY INFORMATION:

Electronic Access

An electronic copy of this document may be downloaded by using a computer, modem, and suitable communications software from the Government Printing Office's Electronic Bulletin Board Services at (202) 512-1661. Internet users may reach the Office of the Federal Register's home page at: http://www.nara.gov/fedreg and the Government Printing Office's database at: http://www.access.gpo.gov/nara. You can also view and download this document by going to the webpage of the Department's Docket Management System (http://dms.dot.gov/). On that page click on “search.” On the next page, type the last four digits of the docket number shown on the first page of this document. Then click on “search.”

Background

This rule is part of a joint effort by the Bureau of Transportation Statistics (BTS) and the Office of the Secretary of Transportation (OST) to conduct a broad-based review of the requirements for aviation data and to modernize the way BTS collects, processes, and disseminates aviation data. This rule is being issued under the rulemaking authority delegated to BTS (See 49 CFR 1.71(a)(3)).

As the first step in this effort, BTS and OST's Office of the Assistant Secretary for Aviation and International Affairs jointly issued an advance notice of proposed rulemaking (ANPRM) (July 15, 1998, 63 FR 28128). The Department solicited comments on the nature, scope, source, and means for collecting, processing, and distributing airline information. The ANPRM covered BTS' major data systems, including those providing traffic, fare, and financial data. The Department invited comments about whether existing aviation data collections should be amended, supplemented, or replaced; whether selected forms and reports should be retained, modified, or eliminated; whether aviation data should be filed electronically; and how the aviation data systems should be re-engineered to enhance efficiency and reduce costs for both the Department and airline industry. The Department subsequently conducted additional outreach and research activities to further assess data requirements and how the data reporting and processing systems could be improved.

The ANPRM, outreach and program analysis took a very broad approach, examining not only the types of traffic, fare, and financial information that should be collected, but also the sources of the data and how the data should be collected and processed. BTS believes it is more practical and manageable to proceed with this rule to correct immediate deficiencies by addressing a distinct aspect of the overall Departmental review.

This final rule deals with the types of market and segment data BTS should collect and from what sources. BTS believes this is an appropriate topic because the reporting changes meet several of the Department's immediate data needs. Support for these changes has also been expressed by several commenters.

Public Comments

On August 28, 2001, BTS published the notice of proposed rulemaking on Air Carrier Traffic and Capacity Data by Nonstop Segment and On-Flight Market in the Federal Register (66 FR 45201).

Comments were received, from the Airports Council International—North America (ACI-NA), America West, Atlas Air, the City of Houston and the Greater Houston Partnership, Data Base Products, Federal Express, Mr. Daniel Kasper, Mr. Robert M. Pryor, Rickenbacker Port Authority, Southern Air, and United Air Lines. The substance of these comments is discussed below under a series of topical captions.

1. Reporting of Domestic All-Cargo, Domestic Charter, and Military Operations

The City of Houston and the Greater Houston Partnership (Houston), Federal Express, Data Base Products, Rickenbacker International Airport and ACI-NA all support reporting detailed nonstop segment and on-flight market information for domestic all-cargo, domestic charter, and military operations.

Houston believes the reporting of domestic all-cargo and charter services would improve the coverage and consistency of traffic reports.

Rickenbacker International Airport in Columbus, Ohio, is an airport that predominantly serves all-cargo air carriers, charter-passenger air carriers, and the military. The collection of detailed data from cargo and charter carriers would provide it with much needed planning and marketing information. More importantly, Rickenbacker International Airport believes the data would assist the FAA in further understanding airport traffic patterns enabling them to make better determinations on the allocation of Airport Improvement Program (AIP) funds.

ACI-NA states that “the proposed changes would produce information regarding on-board traffic loads that is more useful to U.S. airports in understanding market developments including gaps in passenger and cargo service; marketing their airports and communities to U.S. and foreign combination and all-cargo carriers; planning and monitoring a wide-range of airport facilities and services; substantiating to the U.S. Government the need for airport and related facilities and the value of domestic and international air services; and participating in domestic and international policy deliberations and competitive proceedings.”

Federal Express supports BTS' goal to fill data gaps, but believes BTS did not go far enough. Federal Express believes that all carriers licensed under 49 U.S.C. 41103 should submit the financial reports required under 14 CFR part 241.

A further expansion of the financial reporting universe goes beyond the scope of this rulemaking. BTS does plan, however, to review air carrier financial reporting matters and address any proposed changes that may be identified in a separate rulemaking. Federal Express' comments will be addressed at that time.

Atlas Air is against reporting detailed segment and market data for military operations because the dissemination of such data could compromise national security.

We agree with Atlas Air that the dissemination of detailed segment or market data for military operations has the potential to compromise national security. The risk is lessened by the fact that the data are reported 30 days after the applicable month. Nevertheless, we believe the appropriate safeguard is to withhold the detailed segment or market data for military operations from public release. Military operations are identified by a separate service-class code that BTS is easily able to segregate from the carriers' other reported operations.

Previously, large certificated air carriers did not provide either market or segment data for domestic charter and domestic all-cargo services, nor did they provide detailed information for their military operations. Small certificated and commuter air carriers reported their traffic statistics under the less sophisticated Form 298-C reporting system. Part 291 all-cargo carriers did not report market or segment data. Foreign carriers did not report operations with small aircraft (60 seats or less or 18,000 pounds of payload capacity or less).

The detailed nonstop segment data include the following items:

Carrier entity code

Reporting period date

Origin airport code

Destination airport code

Service class code

Aircraft type code

Revenue passengers transported

Revenue freight transported

Revenue mail transported

Available capacity payload

Available seats, total

Revenue aircraft departures performed

Revenue aircraft departures scheduled

Revenue aircraft hours (airborne)

Aircraft hours (ramp-to-ramp)

The detailed on-flight market data include the following items:

Carrier entity code

Reporting period date

Origin airport code

Destination airport code

Service class code

Revenue passengers enplaned

Revenue freight enplaned

Revenue mail enplaned

Since the Department will be collecting detailed nonstop segment and on-flight market data for all types of flight operations, the Department will calculate from the segment and market records the following data items for all reporting air carriers, thus relieving the carriers of this task:

Revenue passenger-miles

Revenue cargo tons enplaned

Revenue tons transported

Revenue ton-miles

Revenue ton-miles, passenger

Revenue ton-miles, freight

Revenue ton-miles, mail

Available ton-miles

Available seat-miles

Revenue aircraft miles flown

Revenue aircraft miles scheduled

Inter-airport distance

2. Joint-service Operations To Be Reported by Operating Carrier

Atlas Air disagrees with the proposal that wet-lessor carriers should report detailed nonstop segment and on-flight market data for two reasons. Atlas states that the wet lessee is better able to collect and submit this information; and wet lessor reporting may be confusing to the investment community because it is the lessee that is bearing the financial risks of the operation.

ACI-NA agrees that it will be less confusing about which carrier should report the data if the operating carrier is required to file. However, it further maintains that the reporting carrier should also identify the marketing carrier so that interested parties are not required to reconcile multiple data bases. A similar comment was made by Rickenbacker International Airport.

Southern Air submitted to this docket and to the Docket OST-01-10885 comments stating that revenue ton-miles conducted under wet-lease operations should be recognized for the lessor under the Air Transportation Safety and System Stabilization Act.

We do not agree with Atlas Air's assertion that it is easier for the lessee to report T-100 data. In the past, we have received arguments from lessees that they do not have all the required aircraft operational data for T-100 reporting. Capacity, revenue ton-miles, flight hours, and block hours are statistics within the purview of the lessor. In a joint operation, there must be cooperation between the partners for accurate reporting.

We agree with Atlas that the majority of the economic risk for wet-lease service falls on the lessee; however, lessors also suffer a decline in service during economic downturns as exhibited by some carriers following the tragedy of September 11, 2001. Nonetheless, we believe the need for operational data by the FAA and the National Transportation Safety Board (NTSB) outweigh the needs of the investment community. Placing the reporting requirement on the operating carrier removes the confusion as to which carrier must report a joint operation. There were times when cargo carriers were confused as to whether they were performing a wet-lease operation for a direct air carrier or performing a charter for an air freight forwarder. There are companies that have both direct air carrier and freight forwarder subsidiaries. Currently, wet-lease operations are reported by the lessee while charters for a freight forwarder are reported by the operating carrier.

In passenger service, a hybrid type of operation between code-share and wet-lease operations has developed. In these situations, the operating carrier receives a lower lease payment but receives a share of the passenger revenues. Thus, both parties share in the economic risk of the operation. Designating the operating carrier as the reporting carrier removes any confusion about which carrier is required to report the operation.

Regional carrier service is a growing segment of the air transportation industry. Major carriers are increasing the extent to which they hand over service to their code-share partners. The level of service to small communities can be positively or negatively affected by code-sharing. This creates an important need for DOT to monitor the impact of code-sharing on the affected communities. To effectively monitor these industry changes, the Department, the FAA, and NTSB require data on the air carriers actually operating the aircraft under joint-service agreements.

While we agree with ACI-NA that identifying the marketing carrier would be helpful information, neither the Office of the Secretary nor the FAA identified the data element as fundamental to their needs. The requirement to report marketing carriers would generally fall on the smaller code-share partners of major carriers. Some of these small operators have multiple code-share arrangements between the same city-pairs. While the total burden to report the marketing carrier may not be substantial to the industry as a whole, it may be an inordinate burden to several smaller carriers. Based on these factors, at this time, we have elected not to collect this data item.

Southern's comments have been addressed in Docket OST-01-10885, and are outside the scope of this rulemaking.

3. Citizenship Data

ACI-NA requests that BTS expand the T-100 System to collect citizenship data. ACI-NA recognizes that the Department of Commerce collects I-92 citizenship data, but argues that it is of limited use because it excludes Canada-U.S. traffic. Citizenship data would be helpful in calculating the economic benefits derived from foreign tourists and business travelers.

BTS agrees that citizenship data needs to be improved, especially the data gap for Canada-U.S. operations. At the same time, BTS believes that the data gap can best be filed by the Department of Commerce, which already has a system in place to collect citizenship data. BTS recommends that ACI-NA petition the Department of Commerce to expand I-92 citizenship data to include Canada-U.S. operations.

4. Traffic Reporting by Small Certificated and Commuter Air Carriers

The City of Houston strongly supports the proposal to require small certificated and commuter air carriers to report T-100 data. It believes that the Part 298 reporting rules are obsolete for the regional airline industry operations. It further states that: “There is no reason to maintain separate reporting systems that complicate the ability to track the activity of both large and small aircraft at our nation's airports.”

United Air Lines supports the proposal to expand the T-100 collection to include data from all commuter carriers regardless of the type of aircraft used in the service.

America West supports the lowering of the reporting threshold to include aircraft with seating capacities of 50 seats or lower.

ACI-NA strongly supports T-100 traffic reporting by all carriers and states that: “These changes will improve the allocation of Airport Improvement funds and make it easier to track Passenger Facility Charges.”

Mr. Robert M. Pryor states that the BTS proposal will provide a significant improvement to the nation's reporting system.

Mr. Daniel M. Kasper fully supports requiring small certificated and commuter air carriers to report T-100 data. However, he does express concerns about dropping the requirement to report Form 298-C, Schedule T-1, Report of Revenue Traffic by On-Line Origin and Destination, without imposing a corresponding requirement to submit the Passenger Origin-Destination Survey Report. Similar concerns were expressed by Mr. Earl Doolin of Data Base Products and ACI-NA.

For the purpose of reporting traffic statistics, BTS is removing distinction of large and small aircraft. All operations will be reported on Schedule T-100. While there is agreement that small certificated and commuter air carriers should report T-100 data, some parties believe that BTS should have gone further and required these carriers to report the Passenger Origin-Destination Survey data. As stated earlier, this rulemaking is the first step in modernizing aviation data. In the future, the Department will issue a rulemaking that addresses the Passenger Origin-Destination Survey Report. That rulemaking will address the reporting universe, the required data elements, and the technology to be used for submitting the Passenger Origin-Destination Survey Report. Given the future rulemaking, it would not be cost effective to require a segment of the industry to adopt a reporting system that may soon become obsolete.

As an alternative to the Passenger Origin-Destination Survey Report, the commenter proposed that the small certificated and commuter air carriers continue to file Form 298-C, Schedule T-1 Report of Revenue Traffic by On-Line Origin and Destination. Schedule T-1 provides for an air carrier's on-line origin and destination of its passengers. On-line origin is the airport where a passenger enters a carrier's system. On-line destination is the airport where a passenger exits that carrier's system. Intermediate points or connecting points are not reported under this system.

There are a number of advantages that will result from moving small certificated and commuter air carriers to the T-100 system. The reporting changes will result in: (1) A unified traffic reporting system for all types of operations; (2) small certificated and commuter air carriers reporting traffic movements for intermediate points; (3) the FAA having the airport enplanement data it needs for distributing Airport Improvement Program (AIP) funds, auditing the collection of Passenger Facilities Charges, and forecasting future traffic trends and movements; (4) airports having data that will facilitate their analysis of traffic flows and infrastructure needs; (5) the newly created Transportation Security Administration having the data it needs to review an air carrier's remittance of civil aviation security service fees; and (6) the Essential Air Service Program (EAS) having market data for hub airports for use in analyzing the service of small communities. The Department through the EAS program guarantees small communities access to the national aviation system; therefore, it is more important to know a small community's total traffic into a hub rather than its traffic into a number of spoke airports.

There are some disadvantages in that the on-line origin-destination passenger data will not be available from small certificated and commuter air carriers. Schedule T-100 is designed to track aircraft movements. We will have information on where a passenger got on and off a particular flight rather than where the passenger got on and off a particular carrier's route network. As stated before, Form 298-C Schedule T-1 tracks where passengers enter and exit a carrier's route system. Under this rule, on-line origin-destination data are lost when a passenger changes flights within a small certificated or a commuter air carriers' route network. This is a problem that is generally associated with a hub-and-spoke network. Passengers traveling from spoke-to-spoke will be shown as two passenger enplanements under T-100. When there is a change in flight numbers, one enplanement is recorded for the flight into the hub and another enplanement is recorded for the flight to the destination spoke. There will not be market data for spoke-to-spoke passengers when there is a change in flight numbers and those passengers' itinerary did not involve passage on a carrier that submits the Passenger Origin-Destination Survey Report.

There are costs and benefits to the proposal to require small air carriers to report both T-100 and Form 298-C Schedule T-1 data until the Department implements changes to the current Passenger Origin-Destination Survey. The benefit is that we would retain the on-line market data for local spoke-to-spoke travelers. Under T-100, we still will have the enplanement data at the spoke airports, which is used to make EAS determinations and allocate AIP funds. Moreover, not all small carriers operate hub-and-spoke systems where there would be a loss of on-line market data. We believe that the costs of dual reporting exceed the benefits at this time.

Mr. Kasper identified a number of medium to large-size markets (40,000 to 275,000 quarterly passengers) that are substantially under-reported in the Passenger Origin-Destination Survey Report. These include:

Market | O&D passengers | Percent under reported
• SEA-PDX | 273,550 | 25
• LGA-CMH | 222,900 | 30
• SLC-BOI | 182,720 | 25
• SAN-LAX | 157,460 | 30
• IAD-EWR | 116,230 | 66
• SAV-ORD | 87,220 | 50
• RDU-IAD | 86,700 | 73
• IND-IAD | 65,180 | 83
• BTV-BOS | 49,480 | 86
• PWM-IAD | 43,040 | 93

The above list makes a strong argument for reviewing the threshold requirements for submitting the Passenger Origin-Destination Survey Report. Requiring small carriers to continue to report On-Line Passenger Origin-Destination data will not resolve or ease the problem. Each of the markets listed above is served on a nonstop basis by a small air carrier. These carriers will report the market data in their monthly T-100 on-flight market records.

BTS has not identified a regulatory need to require dual reporting of T-100 and Form 298-C Schedule T-1 reporting. The burden to the small carriers outweighs the Department's need for spoke-to-spoke market data.

5. Total Aircraft Hours, Aircraft Days Assigned to Service, and Fuel Issued

Ms. Lucretia Frederich, Mr. Robert Pryor, and Mr. Earl Doolin all proposed that carriers report total aircraft hours, aircraft days assigned to service, and aircraft fuels by aircraft type on Form 41 Schedules P-5.1 and P-5.2, Aircraft Operating Expenses, rather than on Schedule P-2, Notes to BTS Form 41 Report.

These data items are currently reported on the supplemental Schedule T-2 because these data elements cannot be calculated by BTS from the detailed Schedule T-100 reports. Based on the importance of these data elements and the fact we are eliminating Schedule T-2, we must find an appropriate reporting location. BTS agrees with the comments that locating them on the Schedules P-5.1 and P-5.2 is a better alternative than placing them in the free form Schedule P-2. By adding these items to the aircraft operating expense schedules, it will be easier for analysts to calculate expenses per hour, cost of fuel per gallon, and aircraft utilization.

Small certificated and commuter air carriers do not currently submit Form 41 financial reports, and we are not requiring them to do so now. Small certificated air carriers submit Form 298-C, Schedule F-2 Report of Aircraft Operating Expenses and Related Statistics, which already contains gallons of fuel issued. Commuter air carriers submit a basic quarterly income statement, with no detailed aircraft costing information. Since BTS will calculate revenue block hours and departures from the detailed T-100 data, we are eliminating these two elements from Form 298-C Schedule F-2.

6. Elimination of Supplemental Schedules T-1, T-2, and T-3

Mr. Robert Pryor expressed his concern about the public availability of the data elements that were reported on supplemental Schedules T-1, T-2, and T-3. In the NPRM, BTS stated that it would calculate the data elements eliminated on the supplemental schedules by using the detailed market and segment data reported on Schedule T-100. However, BTS did not specifically address the issue of public availability of the computed data. Mr. Pryor proposed that BTS amend Part 241 to state that BTS will construct Schedules T-1, T-2, and T-3 and that BTS will make these schedules publicly available after processing. Also, Mr. Pryor was concerned that restrictions on detailed international data may impact the release of supplemental data.

BTS will continue to make available to the public the data elements that were reported on supplemental Schedules T-1, T-2, and T-3. These data will be available after BTS completes its editing and processing. BTS' current information technology plans call for adding more data elements to the BTS web site to expand data availability to the public. BTS does not believe it is necessary to revise its regulations to include Mr. Pryor's proposal since it has been and will continue to be BTS policy to release Schedule T-1, T-2 and T-3 data.

BTS will use international segment and market data in its creation of supplemental T-1, T-2, and T-3 data. Nevertheless, the supplemental schedules do not include the detailed market information that is competitively sensitive. Consequently, the supplemental reports will not be withheld from public release.

7. Definition of Scheduled Service

Rickenbacker International Airport commented that part 291 should be clarified by defining scheduled service. It stated that the airport receives regular scheduled all-cargo flights. Some of these flights are operated daily, others are operated three times a week or weekly. While these flights are available to the public, they are not always published in the Official Airline Guide (OAG). Rickenbacker wants to be assured that these flights are considered to be scheduled flights.

We will add a definition of scheduled service to § 291.2. We agree with Rickenbacker's interpretation that a scheduled cargo flight does not have to operate daily or be published in the OAG to meet the definition of scheduled service. The definition will read:

Service, scheduled cargo means transport service operated pursuant to published flight schedules including extra sections. There is no requirement on the number of weekly flights nor is there a requirement that the schedule must be published in the OAG.

8. Collecting Traffic Data From Foreign Air Carriers for Small Aircraft Operations

There were general comments from Data Base Products, Mr. Robert Pryor, the City of Houston, and ACI-NA in favor of the proposed changes. There were no comments opposing foreign air carriers being required to report small aircraft operations.

Given the proliferation of regional jet aircraft in trans-border service between the U.S. and Canada, the intense level of competition in the marketplace, the maturity of the industry, and the advances in information technology, the absence of data for this segment of the air transportation industry accounts for a significant adverse gap in the Department's ability to perform industry analyses. To close this gap, the Department is eliminating the provision that allows foreign air carriers to exclude segment and market data for aircraft operations conducted wholly with small aircraft. Currently, foreign air carriers are required to report only operations conducted with large aircraft, which are defined as aircraft with more than 60 seats or greater than 18,000 pounds of payload capacity.

Foreign air carriers have replaced large aircraft with regional jet aircraft. For many trans-border operations, regional jets account for a significant number of trans-border enplanements. Regional jets also replaced large aircraft on some longer haul routes, such as Ottawa-Washington. When regional jets were substituted for large jet aircraft, operations that were once included on Schedule T-100(f) were no longer reported, further widening the data gap. As the use of the regional jet becomes even more prevalent, the absence of data increases the volume of market traffic-flow information that is either incomplete or nonexistent.

It appears that the current small aircraft exclusion for foreign air carriers no longer serves a purpose. In fact, Air Canada, which may conduct the most small aircraft operations to the United States, communicated to the Department that it is cumbersome to identify and then exclude statistics for small aircraft in their T-100(f) submissions. Air Canada is, in fact, reporting detailed T-100 data for its small aircraft operations on a voluntary basis.

The FAA uses enplanement data for U.S. airports to distribute the annual AIP entitlement funds to eligible primary airports. U.S. airports receiving significant service from foreign air carriers operating small aircraft could thus be receiving less than their fair share of AIP entitlement funds. Collecting Schedule T-100(f) data for small aircraft operations will enable the FAA to more fairly distribute these funds.

9. Standardized Formats for Electronic Submissions

The BTS encourages carriers to use advanced information technologies to submit their reports to BTS. To avoid a multitude of file formats that could lead to inefficiencies in processing, we are adopting a standard length of fields for submission of personal computer (PC) generated reports. The field descriptions and field lengths are identical to the fields prescribed for magnetic tape/cartridge submissions. Submitters must separate fields by using commas or tabs (comma delimited ASCII or tab delimited ASCII format). The Department will accept alternative formats after prior approval by the Assistant Director—Airline Information, Bureau of Transportation Statistics.

Nonstop Segment Layout
Field No. | Positions | Mode | Description
1 | 1 | 1T | S To identify Segment Record.
2 | 2-6 | 5T | Carrier Entity Code.
3 | 7-12 | 6T | Report Date (YYYYMM).
4 | 13-15 | 3T | Origin Airport Code.
5 | 16-18 | 3T | Destination Airport Code.
6 | 19 | 1T | Service Class (F, G, L, N, P or R).
7 | 20-23 | 4T | Aircraft Type Code.
8 | 24-28 | 5N | Revenue Departures Performed.
9 | 29-38 | 10N | Available Capacity Payload (lbs.).
10 | 39-45 | 7N | Available Seats.
11 | 46-52 | 7N | Revenue Passengers Transported.
12 | 53-62 | 10N | Revenue Freight Transported in lbs.
13 | 63-72 | 10N | Revenue Mail Transported in lbs.
14 | 73-77 | 5N | Revenue Aircraft Departures Scheduled.
15 | 78-87 | 10N | Revenue Hours (Block) in Minutes.
16 | 88-97 | 10N | Revenue Hours (Airborne) in Minutes.

On-Flight Market Record Layout
Field No. | Positions | Mode | Description
1 | 1 | 1T | M To identify Market Record.
2 | 2-6 | 5T | Carrier Entity Code.
3 | 7-12 | 6T | Report Date (YYYYMM).
4 | 13-15 | 3T | Origin Airport Code.
5 | 16-18 | 3T | Destination Airport Code.
6 | 19 | 1T | Service Class (F,G,L,N,P or R).
7 | 20-26 | 7N | Total Revenue Passengers in Market.
8 | 27-36 | 10N | Revenue Freight in Market (in lbs.).
9 | 37-46 | 10N | Revenue Mail in Market (in lbs.).
T=Text.
N=Numeric.

10. Effective Date for Reporting

United Air Lines supports the changes to T-100 but requests at least 90 days implementation time.

We have set October 1, 2002 as the effective date. The first reports are due at BTS by November 30, 2002.

Cost/Benefit Analysis

Costs

A regulatory evaluation was placed in Docket OST 98-4043. We welcomed comments on the evaluation. BTS did not receive any comments addressing its evaluation.

The costs of this rule are the expenses incurred in making the necessary changes to air carrier information gathering systems. These include: (1) The expense for small certificated, commuter, and all-cargo air carriers to report their air traffic activity under the T-100 Traffic Reporting System; (2) the expense to modify U.S. carriers' reporting systems to provide the detailed market and segment information for all their military, domestic all-cargo, and domestic charter flights; (3) the expense to all-cargo air carriers to report monthly traffic and fuel consumption data; and (4) the expense to foreign air carriers to include small aircraft operations to/from the United States in their monthly submissions.

BTS believes the costs mentioned above are minor because all the information requested should be readily available to the affected air carriers (see regulatory evaluation). Mitigating the cost of compliance to the air carriers is the fact the Department will supply the carriers with T-100 reporting software that carriers may use at their discretion.

Benefits

U.S. carriers are relieved of the burden of submitting the supplemental Schedules T-1, T-2, and T-3. Small certificated and commuter air carriers are relieved of the burden of submitting Form 298-C Schedules A-1 and T-1. Small certificated air carriers are also relieved of the burden of submitting Form 298-C Schedule E-1.

The Department, other federal agencies, state and local governments, the airline industry, academia, and the public will benefit from the collection of improved aviation data such as: (1) Detailed segment and market data for domestic all-cargo operations, (2) enplanement statistics for intermediate points served by small certificated and commuter air carriers, (3) detailed segment and market data for small aircraft services operated by foreign air carriers, and (4) fuel consumption data collected from domestic all-cargo carriers.

Rulemaking Analyses and Notices

Executive Order 12866 and DOT Regulatory Policies and Procedures

This rule is not considered a significant regulatory action under section 3(f) of Executive Order 12866 and, therefore, is not subject to review by the Office of Management and Budget.

This rule is not considered significant under the regulatory policies and procedures of the Department of Transportation (44 FR 11034). The purpose of the rule is to improve the accuracy and utility of reported traffic data. This objective is achieved by amending 14 CFR Parts 217, 241, 291, and 298 to require market and segment data for all operations and the collection of traffic statistics from operating air carriers.

Executive Order 13132

This rule has been analyzed in accordance with the principles and criteria contained in Executive Order 13132 (“Federalism”) and will not have a substantial direct effect on the states, on the relationship between the national government and states, or on the distribution of power and responsibilities among the various levels of government. The rule does not impose substantial direct compliance costs on State and local governments or preempt state law. Thus, the BTS has determined that the rule does not have sufficient federalism implications to warrant the preparation of a Federalism Assessment.

Regulatory Flexibility Act Analysis

I certify this rule will not have a significant economic impact on a substantial number of small entities. Approximately 100 small entities will be impacted by this final rule.

Although this final rule amends the reporting requirements for small air carriers, any increase in reporting burden should be minimal. To reduce the impact on small businesses, the BTS will supply affected carriers with software to facilitate their reporting of the required traffic data. In addition, BTS plans to conduct outreach efforts to inform small carriers of the changes in the reporting requirements. This rule also eases the reporting burden on small air carriers by eliminating the Form 298-C traffic schedules.

The Department recognizes that changes in reporting formats initially increase reporting burden due to a need to familiarize staff with a revised reporting system. After carrier staff becomes proficient with the new software, carrier reporting burden should be less under the T-100 System than if carriers continued to file Form 298-C traffic reports.

The Regional Airline Association (RAA), which represents small airline companies, had commented at the advance notice of proposed rulemaking stage that the current traffic reporting system for small operators is both inappropriate and inconsistent. We believe that this rule addresses RAA's concerns. The RAA did not comment on the NPRM.

National Environmental Protection Act

The BTS analyzed the amendments for the purpose of the National Environmental Protection Act. The amendments will not have any impact on the quality of the human environment.

Paperwork Reduction Act Analysis

The reporting and recordkeeping requirements associated with this rule were sent to the Office of Management and Budget in accordance with 44 U.S.C. chapter 35 under OMB NO: 2138-0040. ADMINISTRATION: Bureau of Transportation Statistics; TITLE: Report of Traffic and Capacity Statistics—The T-100 System; NEED FOR INFORMATION: Statistical information on airline passenger movements; PROPOSED USE OF INFORMATION: Balance of benefits analyses for international agreements, assignment of passenger enplanements to the proper airports and monitoring the adequacy of air service to small communities; FREQUENCY: Monthly; BURDEN ESTIMATE: 25,000 annual hours; AVERAGE ANNUAL BURDEN HOURS PER RESPONDENT AFTER REPROGRAMMING IS COMPLETED—70. For further information contact: The Office of Information and Regulatory Affairs, Office of Management and Budget, Room 10235, New Executive Office Building, Washington, DC 20503, Attention Desk Officer for the Department of Transportation or Bernie Stankus at the address listed under For Further Information Contact.

Unfunded Mandates Reform Act

This final rule would not impose unfunded mandates under the Unfunded Mandates Reform Act of 1995. It would not result in costs of $100 million or more to either State, local, or tribal governments, in the aggregate, or to the private sector.

Regulation Identifier Number

A regulation identifier number (RIN) is assigned to each regulatory action listed in the Unified Agenda of Federal Regulations. The Regulatory Information Service Center publishes the Unified Agenda in April and October of each year. The RIN number 2139-AA08 contained in the heading of this document can be used to cross-reference this action with the Unified Agenda.

List of Subjects

14 CFR Part 217

Air carriers, Reporting and recordkeeping requirements.

14 CFR Part 241

Air carriers, Reporting and recordkeeping requirements, Uniform System of Accounts.

14 CFR Part 291

Administrative practice and procedure, Air carriers, Freight, Reporting and recordkeeping requirements.

14 CFR Part 298

Air taxis, Reporting and recordkeeping requirements.

Final Rule

Accordingly, the Department amends chapter II of 14 CFR, as follows:

PART 217—[AMENDED]

1. The authority citation for part 217 continues to read as follows:

Authority: 49 U.S.C. 329 and chapters 401, 413, 417.

2. Section 217.1 is amended by removing the definitions for Large Aircraft and Small Aircraft, and by adding the new definitions in alphabetical order to read as follows:

§ 217.1 Definitions.

* * * * *

Reporting carrier for T-100(f) purposes means the air carrier in operational control of the flight, i.e., the carrier that uses its flight crews under its own operating authority.

* * * * *

Wet-Lease Agreement means an agreement under which one carrier leases an aircraft with flight crew to another air carrier.

3. Section 217.2 is revised to read as follows:

§ 217.2 Applicability.

This part applies to foreign air carriers that are authorized by the Department to provide civilian passenger and/or cargo service to or from the United States, whether performed pursuant to a permit or exemption authority.

4. Appendix to § 217.10 is amended as follows:

a. Revise paragraph (a)(2);

b. Revise paragraph (f)(1)(i);

c. Revise paragraph (g)(1)(ii); and

d. Revise paragraph (i)(2).

The revisions read as follows:

Appendix to Section 217.10 of 14 CFR Part 217—Instructions to Foreign Air Carriers for Reporting Traffic Data on Form 41 Schedule T-100(F)

(a) * * *

(2) Applicability. Each foreign air carrier holding a § 41302 permit or exemption authority shall file Schedule T-100(f).

* * * * *

(f) * * *

(1) * * *

(i) Reporting medium. ADP data submission must be on IBM compatible disks. Carriers using mainframe or minicomputers shall download (transcribe) to the required IBM compatible disk. Carriers wishing to use a different ADP procedure or e-mail must obtain written approval to do so from the BTS Assistant Director—Airline Information under the waiver provisions in § 217.9 of this part. Requests for approval to use alternative methods must disclose and describe in sufficient detail the proposed data transmission methodology.

* * * * *

(g) * * *

(1) * * *

(ii) Line A-2 Report date. This is the year and month to which the data are applicable. For example, 200009 indicates the year 2000, and the month of September.

* * * * *

(i) * * *

(2) Joint-service operations shall be reported on BTS Form 41 Schedules T-100 and T-100(f) by the air carrier in operational control of the flight, i.e., the air carrier that uses its flight crew to perform the operation. If there are questions about reporting a joint-service operation, contact the BTS Assistant Director—Airline Information at the address in paragraph (a)(3) of this appendix.

* * * * *

5. Section 217.11 is amended by revising paragraph (a) to read as follows:

§ 217.11 Reporting compliance.

(a) Failure to file reports required by this part will subject an air carrier to civil penalties prescribed in Title 49 United States Code section 46301.

* * * * *

PART 241—[AMENDED]

6. The authority citation for part 241 continues to read as follows:

Authority: 49 U.S.C. 329 and chapters 401, 411, 417.

7. Part 241 Section 03 is amended by revising the definition for Aircraft days assigned to service-carrier's equipment and adding in alphabetical order the definitions for Reporting carrier and Wet-lease Agreement to read as follows:

Section 03—Definitions for Purposes of This System of Accounts and Reports

* * * * *

Aircraft days assigned to service-carrier's equipment means the number of days that aircraft owned or acquired through rental or lease are in the possession of the reporting air carrier and are available for service on the reporting carrier's routes plus the number of days such aircraft are in service on routes of others under wet-lease agreements. Includes days in overhaul, or temporarily out of service due to schedule cancellations. Excludes days that newly acquired aircraft are on hand but not available for productive use, days dry-leased or rented to others, and days in possession but formally withdrawn from air transportation service.

* * * * *

Reporting carrier for T-100 purposes means the air carrier in operational control of the flight, i.e., the carrier that uses its flight crew under its own FAA operating authority.

* * * * *

Wet-Lease Agreement means an agreement under which one carrier leases an aircraft with flight crew to another air carrier.

8. Part 241 Sec. 19-1 is amended by revising paragraphs (a) and (c) to read as follows:

Section 19—Uniform Classification of Operating Statistics

Sec. 19-1 Applicability.

(a) United States air carrier. Each large certificated U.S. air carrier shall file with the Department, on a monthly basis, Form 41 Schedule T-100 “U.S. Air Carrier Traffic and Capacity Data By Nonstop Segment and On-flight Market,” and summary data as prescribed in this section and in sections 22 and 25 of this part.

* * * * *

(c) Each U.S. air carrier shall use magnetic computer tape or IBM compatible disk for transmitting the prescribed data to the Department. Upon good cause shown, OAI may approve the request of a U.S. air carrier, under section 1-2 of this part, to use hardcopy data input forms or submit data via e-mail.

* * * * *

9. Part 241 Sec. 19-3 is amended by removing and reserving paragraph (b).

10. Part 241 Sec. 19-5 is amended by revising paragraph (b) to read as follows:

Sec. 19-5 Air transport traffic and capacity elements.

* * * * *

(b) These reported items are as follows:

Code | Description | Segment | Market | Computed by DOT
| Carrier, carrier entity code | S | M
| Reporting period date | S | M
| Origin airport code | S | M
| Destination airport code | S | M
| Service class code | S | M
| Aircraft type code | S
110 | Revenue passengers enplaned |  | M
130 | Revenue passengers transported | S
140 | Revenue passenger-miles |  |  | CFD *
210 | Revenue cargo tons enplaned |  |  | CFD *
217 | Enplaned freight |  | M
219 | Enplaned mail |  | M
230 | Revenue tons transported |  |  | CFD *
237 | Transported freight | S
239 | Transported mail | S
240 | Revenue ton-miles |  |  | CFD *
241 | Revenue ton-miles passenger |  |  | CFD *
247 | Revenue ton-miles freight |  |  | CFD *
249 | Revenue ton-miles mail |  |  | CFD *
270 | Available capacity payload | S
280 | Available ton-miles |  |  | CFD *
310 | Available seats, total | S
320 | Available seat-miles |  |  | CFD *
410 | Revenue aircraft miles flown |  |  | CFD *
430 | Revenue aircraft miles scheduled |  |  | CFD *
501 | Inter-airport distance |  |  | CFD *
510 | Revenue aircraft departures performed | S
520 | Revenue aircraft departures scheduled | S
610 | Revenue aircraft hours (airborne) | S
630 | Aircraft hours (ramp-to-ramp) | S
650 | Total aircraft hours (airborne) | S
* CFD = Computed by DOT from detail Schedule T-100 and T-100(f) data.

* * * * *

11. Part 241 Section 19-6 is amended by revising paragraphs (a) and (b) introductory text to read as follows:

Section 19-6 Public disclosure of traffic data.

(a) Detailed domestic on-flight market data and nonstop segment data except military data shall be made publicly available after processing. Domestic data are defined as data from air transportation operations from a place in any State of the United States, the District of Columbia, the Commonwealth of Puerto Rico and the Virgin Islands, or a U.S. territory or possession to a place in any State of the United States, the District of Columbia, the Commonwealth of Puerto Rico and the Virgin Islands, or a U.S. territory or possession. Domestic military operations are reported under service codes N or R.

(b) Detailed international on-flight market and nonstop segment data in Schedule T-100 and Schedule T-100(f) reports, except military data, shall be publicly available immediately following the Department's determination that the database is complete, but no earlier than six months after the date of the data. Military operations are reported under service codes N or R. Data for on-flight markets and nonstop segments involving no U.S. point shall not be made publicly available for three years. Industry and carrier summary data may be made public before the end of six months or the end of three years, as applicable, provided there are three or more carriers in the summary data disclosed. The Department may, at any time, publish international summary statistics without carrier detail. Further, the Department may release nonstop segment and on-flight market detail data by carrier before the end of the confidentiality period as follows:

* * * * *

12. In Part 241 Section 22:

a. The List of Schedules in BTS Form 41 Report is amended by removing the entries for Schedules T-1, T-2, and T-3.

b. The chart of DUE DATES OF SCHEDULES IN BTS FORM 41 REPORT is amended in the last column by removing Schedules T-1, T-2, and T-3, wherever they appear.

13. Part 241 Section 24 is amended as follows:

a. By revising the first sentence of Schedule P-5.1(e);

b. By adding Schedule P-5.1 (j), (k) and (l); and

c. By revising the title of Schedule P-5.2.

The revisions and addition are as follows:

Section 24—Profit and Loss Elements

* * * * *

Schedule P-5.1 * * *

(e) This schedule shall show the direct and indirect expenses incurred in aircraft operations plus total aircraft hours, gallons of fuel issued, and aircraft days assigned to service. * * *

* * * * *

(j) Line 17 “Total Aircraft Hours” shall equal the sum of revenue and nonrevenue aircraft hours.

(k) Line 18 “Gallons of Fuel Issued” shall equal the aircraft fuels issued (account Z921).

(l) Line 19 “Aircraft Days Assigned to Service” equals the number of days that aircraft owned or acquired through rental or lease are in the possession of the reporting air carrier and are available for service on the reporting carrier's routes plus the number of days such aircraft are in service on routes of others under wet-lease agreements. Includes days in overhaul, or temporarily out of service due to schedule cancellations. Excludes days that newly acquired aircraft are on hand but not available for productive use, days dry-leased or rented to others, and days in possession but formally withdrawn from air transportation service.

Schedule P-5.2—Aircraft Operating Expenses and Related Statistics

* * * * *

14. Part 241 Section 25 is amended as follows:

a. By revising paragraph (b);

b. By removing Schedule T-1 U.S. Air Carrier Traffic and Capacity Summary-By Service Class, Schedule T-2 U.S. Air Carrier Traffic and Capacity Statistics-By Aircraft Type, and Schedule T-3 U.S. Air Carrier Airport Activity Statistics; and

c. By revising paragraph (a) in Schedule T-100 U.S. Air Carrier Traffic and Capacity Data By Nonstop Segment and On-Flight Market paragraph and adding a new paragraph (d).

The revisions and additions read as follows:

Section 25—Traffic and Capacity Elements

* * * * *

(b) Carriers submitting Schedule T-100 shall use magnetic computer tape or IBM compatible disk for transmitting the prescribed data to the Department. Upon good cause shown, OAI may approve the request of a U.S. air carrier, under section 1-2 of this part, to use hardcopy data input forms or submit data via e-mail.

* * * * *

Schedule T-100 U.S. Air Carrier Traffic and Capacity Data by Nonstop Segment and On-Flight Market

(a) Schedule T-100 collects detailed on-flight market and nonstop segment data on all revenue flights flown by U.S. certificated air carriers. This schedule is filed monthly. Separate data shall be reported for each operating entity (Latin America, Atlantic, Pacific; International, or Domestic) of the air carrier. Data for each operating entity shall be reported using the five digit entity code prescribed under section 19-5(c) of this part.

* * * * *

(d) Joint-service operations. The air carrier in operational control of the aircraft (the carrier that uses its flight crews under its own FAA operating authority) must report joint-service operations.

15. The appendix to Part 241 Section 25 is revised to read as follows:

Appendix to Section 241.25 of 14 CFR Part 241-Instructions to U.S. Air Carriers for Reporting Traffic and Capacity Data on Form 41 Schedule T-100

(a) Applicability. Each large U.S. air carrier that holds a 49 U.S.C. “41102 certificate must file the monthly Schedule T-100.

(b) Schedules, Frequency, and entity: (1) Schedule T-100 collects summarized flight stage data by reporting entity for scheduled and nonscheduled passenger, and cargo operations. The term entity refers to the geographic location designator prescribed by the Department in “241.19-5(c)(2). Thus, domestic entity operations are distinguished from international entity operations.

(2) [Reserved]

(c) Format of reports:

(1) Automatic Data Processing (ADP) magnetic tape. Refer to paragraph (f) of this appendix for instructions pertaining to mainframe and minicomputer reporting. The Department will issue “Accounting and Reporting Directives” to make necessary technical changes to these T-100 instructions. Technical changes which are minor in nature do not require public notice and comment.

(2) Microcomputer diskette.

(i) Optional specification. If an air carrier desires to use its personal computers (PC's), rather than mainframe or minicomputers to prepare its data submissions, the following specifications for filing data on diskette media apply:

(ii) Reporting medium. Microcomputer ADP data submission of T-100 information must be on IBM compatible disks. Carriers wishing to use a different ADP procedure must obtain written approval to do so from the BTS Assistant Director—Airline Information. Requests for approval to use alternate methods must disclose and describe the proposed data transmission methodology. Refer to paragraph (k) of this appendix for microcomputer record layouts.

(iii) Microcomputer file characteristics. The files will be created in ASCII delimited format, sometimes called Data Interchange Format (DIF). This form of recording data provides for variable length fields (data elements) which, in the case of alphabetic data, are enclosed by quotation marks (“) and separated by a comma (,) or tab. Numeric data elements that are recorded without editing symbols are also separated by a comma (,) or tab. The data are identified by its juxtaposition within a given record. Therefore, each record must contain the exact number of data elements, all of which must be juxtapositionally correct. Personal computer software including most spreadsheets, data base management programs, and BASIC are capable of producing files in this format.

(d) Filing date for reports. The reports must be received at BTS within 30 days following the end of each reporting period.

(e) Address for filing: Data Administration Division, K-14, Room 4125, Office of Airline Information, Bureau of Transportation Statistics, U.S. Department of Transportation, 400 Seventh Street SW., Washington, DC 20590-0001.

(f) ADP format for magnetic tape: (1) Magnetic tape specifications. IBM compatible 9-track EBCDIC recording. Recording density of 6250 or 1600 bpi. The order of recorded information is:

Volume label

Header label

Data records

Trailer label

(2) [Reserved]

(g) External tape label information:

Carrier name

Report date

File identification

Carrier address for return of tape reel

(h) Standards. It is the policy of the Department to be consistent with the American National Standards Institute and the Federal Standards Activity in all data processing and telecommunications matters. It is our intention that all specifications in this application be in compliance with standards promulgated by these organizations.

(i) Volume, header, and trailer label formats:

(1) Use standard IBM label formats. The file identifier field of the header labels should be “T-100.SYSTEM”.

(2) [Reserved]

(j) Magnetic tape record layouts for T-100. (1) Nonstop segment record layout:

Field No. | Positions | Mode | Description
1 | 1 | 1T | Record type code (S = nonstop segment).
2 | 2-6 | 5T | Carrier entity code.
3 | 7-12 | 6T | Report date (YYYYMM).
4 | 13-15 | 3T | Origin airport code.
5 | 16-18 | 3T | Destination airport code.
6 | 19 | 1T | Service class code (F, G, L, N, P or R).
7 | 20-23 | 4T | Aircraft type code.
8 | 24-28 | 5N | Revenue departures performed (F, G, L, N, P, R510).
9 | 29-38 | 10N | Available capacity payload (lbs) (F, G, L, N, P, R270).
10 | 39-45 | 7N | Available seats (F, L, N310).
11 | 46-52 | 7N | Passengers transported (F, L, N130).
12 | 53-62 | 10N | Rev freight transported (F, G, L, N, P, R237)(in lbs).
13 | 63-72 | 10N | Revenue mail transported (F, G, L, N, P, R239) (in lbs).
14 | 73-77 | 5N | Revenue aircraft departures scheduled (F, G520).
15 | 78-87 | 10N | Rev hrs, ramp-to-ramp (F, G, L, N, P, R630) (in minutes).
16 | 88-97 | 10N | Rev hrs, airborne (F, G, L, N, P, R610) (in minutes).
T= Text.
N= Numeric.

(2) On-flight market record layout:

Field No. | Positions | Mode | Description
1 | 1 | 1T | Record type: M = on-flight market record.
2 | 2-6 | 5T | Carrier entity code.
3 | 7-12 | 6T | Report date (YYYYMM).
4 | 13-15 | 3T | Origin airport code.
5 | 16-18 | 3T | Destination airport code.
6 | 19 | 1T | Service class code (F, G, L, N, P or R).
7 | 20-26 | 7N | Total passengers in market (F, L, N110).
8 | 27-36 | 10N | Rev freight in market (F, G, L, N, P, R217) (in lbs).
9 | 37-46 | 10N | Revenue mail in market (F, G, L, N, P, R219) (in lbs).
T=Text.
N-Numeric.

(k) Record layouts for microcomputer diskettes. The record layouts for diskettes are generally identical to those shown for magnetic tape, with the exception that delimiters (quotation marks, tabs and commas) are used to separate fields. It is necessary that the order of fields be maintained in all records.

(1) File characteristics. The files will be created in ASCII delimited format, sometimes called Data Interchange Format (DIF). This form of recording data provides for variable length fields (data elements) which, in the case of alphabetic data, are enclosed by quotation marks (“) and separated by a comma (,) or tab. Numeric data elements that are recorded without editing symbols are also separated by a comma (,) or tab. The data are identified by their juxtaposition within a given record. Therefore, it is critical that each record contain the exact number of data elements, all of which must be juxtapositionally correct. PC software including most spreadsheets, data base management programs, and BASIC produce minidisk files in this format.

(2) File naming conventions for diskettes. For microcomputer reports, each record type shall be contained in a separate DOS file on the same physical diskette. The following DOS naming conventions should be followed:

Record type S = SEGMENT.DAT

Record type M = MARKET.DAT

(l) Discussion of Reporting Concept. (1) Schedule T-100 collects summarized flight stage data and on-flight market data. All traffic statistics shall be compiled in terms of each revenue flight stage as actually performed. The detail T-100 data shall be maintained in such a manner as to permit monthly summarization and organization into two basic groupings. The first grouping, the nonstop segment information, is to be summarized by equipment type, within class of service, within pair-of-points, without regard to individual flight number. The second grouping requires that the enplanement/deplanement information be broken out into separate units called on-flight market records, which shall be summarized by class of service, within pair-of-points, without regard for equipment type or flight number.

(2) [Reserved]

(m) Joint Service. (1) Joint-service operations. The Department may authorize joint-service operations between two direct air carriers. Examples of these joint-service operations are: Blocked-space agreements; part-charter agreements; code-sharing agreements; wet-lease agreements, and other similar arrangements.

(i) Joint-service operations are reported by the carrier in operational control of the flight, i.e., the carrier that uses its flight crews under its own FAA operating authority. The traffic moving under these agreements is reported on Schedule T-100 the same way as any other traffic on the aircraft.

(ii) If there are questions about reporting a joint-service operation, contact the BTS Assistant Director—Airline Information (fax no. 202 366-3383, telephone no. 202 366-4373).

(iii) Operational control. The air carrier in operational control of the aircraft (the carrier that uses its flight crew under its own FAA operating authority) must report joint-service operations.

(2) [Reserved]

(n) Glossary of data elements. § 241.19-5 and § 241.03.

PART 291—[AMENDED]

16. The authority citation for part 291 is revised to read as follows:

Authority: 49 U.S.C. 329 and chapters 411 and 417.

17. Section 291.2 is amended by adding the new definitions in alphabetical order to read as follows:

§ 291.2 Definitions.

* * * * *

Reporting carrier for Schedule T-100 purposes means the air carrier in operational control of the aircraft, i.e., the carrier that uses its flight crew under its own FAA operating authority.

* * * * *

Service, scheduled cargo means transport service operated pursuant to published flight schedules including extra sections. There is no requirement on the number of weekly flights nor is there a requirement that the schedule be published in the Official Airline Guide.

Wet-Lease Agreement means an agreement under which one carrier leases an aircraft with flight crew to another air carrier.

18. Section 291.42 is amended by revising the section heading and paragraph (a) to read as follows:

§ 291.42 Section 41103 financial and traffic reporting.

(a) General instructions. Carriers operating under section 41103 certificates that are not subject to part 241 of this chapter shall file Form 291-A, “Statement of Operations for Section 41103 Operations”, Schedule T-100, “U.S. Air Carrier Traffic and Capacity Data by Nonstop Segment and On-Flight Market”, and Schedule P-12(a), “Fuel Consumption by Type of Service and Entity” with the Department's Bureau of Transportation Statistics (BTS).

(1) A single copy of the BTS Form 291-A report shall be filed annually with the Office of Airline Information (OAI) for the year ended December 31, to be received on or before February 10 of the immediately following year. A single copy of the monthly BTS Schedule P-12(a) is due at OAI within 20 days after the end of each month. An electronic filing of the monthly Schedule T-100 is due at OAI within 30 days after the end of each month. Due dates falling on a Saturday, Sunday or Federal holiday will become effective on the next work day.

(2) Reports required by this section shall be filed at the Office Airline Information, K-14, Room 4125, U.S. Department of Transportation, 400 Seventh Street, SW., Washington, DC 20590-0001.

* * * * *

19. A new § 291.43 is added to Subpart E to read as follows:

§ 291.43 Statement of operation for section 41103 operations.

Form 291-A contains the following data elements:

(a) Total operating revenue, categorized as follows:

(1) Transport revenues from the carriage of property in scheduled and nonscheduled service;

(2) Transport revenues from the carriage of mail in scheduled and nonscheduled service; and

(3) Transport-related revenues;

(b) Total operating expenses;

(c) Operating profit or loss, computed by subtracting the total operating expenses from the total operating revenues; and

(d) Net income, computed by subtracting the total operating and nonoperating expenses, including interest expenses and income taxes, from the total operating and nonoperating revenues.

20. A new § 291.44 is added to Subpart E to read as follows:

§ 291.44 BTS Schedule P-12(a), Fuel Consumption by Type of Service and Entity.

(a) For the purposes of BTS schedule P-12(a), type of service shall be either scheduled service or nonscheduled service as those terms are defined in § 291.45(c)(2) and (3).

(b) For the purpose of this schedule, scheduled service shall be reported separately for:

(1) Intra-Alaskan operations;

(2) Domestic operations, which shall include all operations within and between the 50 States of the United States (except Intra-Alaska), the District of Columbia, the Commonwealth of Puerto Rico and the United States Virgin Islands, or a U.S. territory or possession to a place in any State of the United States the District of Columbia, the Commonwealth of Puerto Rico and the United States Virgin Islands, or a U.S. territory or possession;

(3) International operations are flight stages with one or both terminals outside the 50 States of the United States, the District of Columbia, the Commonwealth of Puerto Rico and the United States Virgin Islands, or a U.S. territory or possession.

(c) For the purpose of this schedule, nonscheduled service shall be reported separately for domestic operations and international operations as defined in paragraphs (b)(2) and (b)(3) of this section, except that domestic and international Military Airlift Command (MAC) operations shall be reported on separate lines.

(d) The cost data reported on each line shall represent the average cost of fuel, as determined at the station level, consumed in that geographic entity.

(e)(1) The cost of fuel shall include shrinkage, but excludes:

(i) “Throughput” and “in to plane” fees, i.e., service charges or gallonage levies assessed by or against the fuel vendor or concessionaire and passed on to the carrier in a separately identifiable form; and

(ii) Nonrefundable Federal and State excise taxes.

(2) However, “through-put” and “in to plane” charges that cannot be identified or segregated from the cost of fuel shall remain a part of the cost of fuel as reported on this schedule.

(f) Each air carrier shall maintain records for each station showing the computation of fuel inventories and consumption for each fuel type. The periodic average cost method shall be used in computing fuel inventories and consumption. Under this method, an average unit cost for each fuel type shall be computed by dividing the total cost of fuel available (Beginning Inventory plus Purchases) by the total gallons available. The resulting unit cost shall then be used to determine the ending inventory and the total consumption costs to be reported on this schedule.

(g) Where amounts reported for a specific entity include other than Jet A fuel, a footnote shall be added indicating the number of gallons and applicable costs of such other fuel included in amounts reported for that entity.

(h) Where any adjustment(s) recorded on the books of the carrier results in a material distortion of the current month's schedule, carriers shall file a revised Schedule P-12(a) for the month(s) affected.

21. A new § 291.45 is added to Subpart E to read as follows:

§ 291.45 BTS Schedule T-100, U.S. Air Carrier Traffic and Capacity Data by Nonstop Segment and On-Flight Market.

(a) Each section 41103 all-cargo air carrier shall file Schedule T-100, “U.S. Air Carrier Traffic and Capacity Data by Nonstop Segment and On-Flight Market”.

(b) Schedule T-100 shall be filed monthly.

(1) Schedule T-100 collects summarized flight stage data and on-flight market data for revenue flights. All traffic statistics shall be compiled in terms of each flight stage as actually performed. The detail T-100 data shall be maintained in such a manner as to permit monthly summarization and organization into two basic groupings. First, the nonstop segment information which is to be summarized by equipment type, within class of service, within pair-of-points, without regard to individual flight number. The second grouping requires that the enplanement/deplanement information be broken out into separate units called on-flight market records, which shall be summarized by class of service, within pair-of-points, without regard for equipment type or flight number.

(2) Joint-service operations. The Department may authorize joint-service operations between two direct air carriers. Examples of these joint-service operations are: blocked-space agreements; part-charter agreements; code-sharing agreements; wet-lease agreements, and similar arrangements.

(i) Joint-service operations are reported by the carrier in operational control of the flight, i.e., the carrier that uses its flight crews under its own FAA operating authority. The traffic moving under these agreements is reported on Schedule T-100 the same way as any other traffic on the aircraft.

(ii) If there are questions about reporting a joint-service operation, contact the BTS Assistant Director—Airline Information (fax no. 202 366-3383, telephone no. 202 366-4373). Joint-service operations are reported in Schedule T-100 in accordance with this paragraph (b).

(iii) Operational control. The air carrier in operational control of the aircraft (the carrier that uses its flight crews under its own FAA operating authority) must report joint services.

(c) Service classes.

(1) The statistical classifications are designed to reflect the operating characteristics attributable to each distinctive type of service offered. The combination of scheduled and nonscheduled operations with passenger, all-cargo, and military services are placed into service classes as follows:

Code | Type of service
F | Scheduled Passenger/Cargo.
G | Scheduled All-Cargo.
L | Nonscheduled Civilian Passenger/Cargo/
P | Nonscheduled Civilian Cargo.
N | Nonscheduled Military Passenger/Cargo.
R | Nonscheduled Military Cargo.

(2) Scheduled services include traffic and capacity elements applicable to air transportation provided pursuant to published schedules and extra sections of scheduled flights. Scheduled Passenger/Cargo (Service Class F) is a composite of first-class, coach, and mixed passenger/cargo service.

(3) Nonscheduled services include all traffic and capacity elements applicable to the performance of nonscheduled aircraft charters, and other air transportation services not constituting an integral part of services performed pursuant to published flight schedules.

(d) Air transport traffic and capacity elements. Within each of the service classifications, carriers shall report air transport traffic and capacity elements. The elements are reported on segment and/or market records as follows:

Code | Description | Segment | Market | Computed by DOT
| Carrier, carrier entity code | S | M
| Reporting period date | S | M
| Origin airport code | S | M
| Destination airport code | S | M
| Service class code | S | M
| Aircraft type code | S
110 | Revenue passengers enplaned |  | M
130 | Revenue passengers transported | S
140 | Revenue passenger-miles |  |  | CFD*
210 | Revenue cargo tons enplaned |  |  | CFD*
217 | Enplaned freight |  | M
219 | Enplaned mail |  | M
230 | Revenue tons transported |  |  | CFD*
237 | Transported freight | S
239 | Transported mail | S
240 | Revenue ton-miles |  |  | CFD*
241 | Revenue ton-miles passenger |  |  | CFD*
247 | Revenue ton-miles freight |  |  | CFD*
249 | Revenue ton-miles mail |  |  | CFD*
270 | Available capacity payload | S
280 | Available ton-miles |  |  | CFD*
310 | Available seats, total | S
320 | Available seat-miles |  |  | CFD*
410 | Revenue aircraft miles flown |  |  | CFD*
430 | Revenue aircraft miles scheduled |  |  | CFD*
501 | Inter-airport distance |  |  | CFD*
510 | Revenue aircraft departures performed | S
520 | Revenue aircraft departures scheduled | S
610 | Revenue aircraft hours (airborne) | S
630 | Aircraft hours (ramp-to-ramp) | S
650 | Total aircraft hours (airborne) | S
* CFD = Computed by DOT from detail Schedule T-100 and T-100(f) data.

(e) These reported items are further described as follows:

(1) Reporting period date. The year and month to which the reported data are applicable.

(2) Carrier, Carrier entity code. Each air carrier shall report its name and entity code (a five digit code assigned by BTS that identifies both the carrier and its entity) for its particular operations. The Office of Airline Information (OAI) will assign or confirm codes upon request. OAI's address is Office of Airline Information, Bureau of Transportation Statistics, DOT, Room 4125, K-14, 400 Seventh Street, SW., Washington, DC 20590-0001.

(3) Service class code. The service class codes are prescribed in section 298.45(c). In general, classes are divided into two broad categories, either scheduled or nonscheduled, where scheduled = F + G and nonscheduled = L + N + P + R.

(4) Record type code. This code indicates whether the data pertain to non-stop segment (record type S) or on-flight market (record type M).

(5) Aircraft type code. This code represents the aircraft types, as described in the BTS' Accounting and Reporting Directives.

(6) Origin, Destination airport code(s). These codes represent the industry designators. An industry source of these industry designator codes is the Official Airline Guide (OAG). OAI assigns codes, upon request, if not listed in the OAG.

(7) 110 Revenue passengers enplaned. The total number of revenue passengers enplaned at the origin point of a flight, boarding the flight for the first time; an unduplicated count of passengers in a market.

(8) 130 Revenue passengers transported. The total number of revenue passengers transported over a single flight stage, including those already on the aircraft from a previous flight stage.

(9) 140 Revenue passenger-miles. Computed by multiplying the inter-airport distance of each flight stage by the number of passengers transported on that flight stage.

(10) 210 Revenue cargo tons enplaned. The total number of cargo tons enplaned. This data element is a sum of the individual on-flight market figures for each of the following categories: 217 Freight and 219 Mail. This element represents an unduplicated count of the revenue traffic in a market.

(11) 217 Enplaned freight. The total weight of revenue freight enplaned at the origin point of a flight, loaded onto the flight for the first time; an unduplicated count of freight in a market.

(12) 219 Enplaned mail. The total weight of mail enplaned at the origin point of a flight, loaded onto the flight for the first time; an unduplicated count of mail in a market.

(13) 230 Revenue tons transported. The number of tons of revenue traffic transported. This element is the sum of the following elements: 231 Passengers transported-total, 237 Freight, and 239 Mail.

(14) 237 Transported freight. The total weight of freight transported over a single flight stage, including freight already on the aircraft from a previous flight stage.

(15) 239 Transported mail. The total weight of mail transported over a single flight stage, including mail already on the aircraft from a previous flight stage.

(16) 240 Revenue ton-miles—total. Ton-miles are computed by multiplying the revenue aircraft miles flown (410) on each flight stage by the number of tons transported on that stage. This element is the sum of 241 through 249.

(17) 241 Revenue ton-miles—passenger. Equals the number of passengers times 200, times inter-airport distance, divided by 2000. A standard weight of 200 pounds per passenger, including baggage, is used for all operations and service classes.

(18) 247 Revenue ton-miles—freight. Equals the volume of freight in whole tons times the inter-airport distance.

(19) 249 Revenue ton-miles—mail. Equals the volume of mail in whole tons times the inter-airport distance.

(20) 270 Available capacity-payload. The available capacity is collected in pounds. This figure shall reflect the payload or total available capacity for passengers, mail and freight applicable to the aircraft with which each flight stage is performed.

(21) 280 Available ton-miles. The aircraft miles flown on each flight stage multiplied by the available capacity on the aircraft in tons.

(22) 310 Available seats. The number of seats available for sale. This figure reflects the actual number of seats available, excluding those blocked for safety or operational reasons. In the domestic entity, report the total available seats in item 130. Scheduled and nonscheduled available seats are reported in item 130.

(23) 320 Available seat-miles. The aircraft miles flown on each flight stage multiplied by the seat capacity available for sale.

(24) 410 Revenue aircraft miles flown. Revenue aircraft miles flown are computed based on the airport pairs between which service is actually performed; miles are generated from the data for scheduled aircraft departures (Code 520) times the inter-airport distances (Code 501).

(25) 430 Revenue aircraft miles scheduled. The number of revenue aircraft miles scheduled. All such data shall be maintained in conformity with the airport pairs between which service is scheduled, whether or not in accordance with actual performance.

(26) 501 Inter-airport distance. The great circle distance, in official statute miles as prescribed in part 247 of this chapter, between airports served by each flight stage. Official inter-airport mileage may be obtained from the Office of Airline Information.

(27) 510 Revenue aircraft departures performed. The number of revenue aircraft departures performed.

(28) 520 Revenue aircraft departures scheduled. The number of revenue aircraft departures scheduled, whether or not actually performed.

(29) 610 Revenue aircraft hours (airborne). The elapsed time, computed from the moment the aircraft leaves the ground until its next landing.

(30) 630 Aircraft hours (ramp-to-ramp). The elapsed time, computed from the moment the aircraft first moves under its own power from the boarding ramp at one airport to the time it comes to rest at the ramp for the next point of landing. This data element is also referred to as ‘block’ and ‘block-to-block’ aircraft hours.

(31) 650 Total aircraft hours (airborne). The elapsed time, computed from the moment the aircraft leaves the ground until it touches down at the next landing. This includes flight training, testing, and ferry flights.

(f) Public availability of Schedule T-100 data. Detailed domestic on-flight market and nonstop segment data in Schedule T-100, except military data, shall be publicly available after processing. Domestic data are defined as data from air transportation operations from a place in any State of the United States, the District of Columbia, the Commonwealth of Puerto Rico and the Virgin Islands, or a U.S. territory or possession to a place in any State of the United States, the District of Columbia, the Commonwealth of Puerto Rico and the Virgin Islands, or a U.S. territory or possession.

Appendix to § 291.45—Instructions to U.S. Air Carriers for Reporting Traffic and Capacity Data on Schedule T-100

(a) Format of reports. (1) Automatic Data Processing (ADP) magnetic tape. Refer to paragraph (d) of this appendix for instructions pertaining to mainframe and minicomputer reporting. The Department will issue “Accounting and Reporting Directives” to make necessary technical changes to these T-100 instructions. Technical changes which are minor in nature do not require public notice and comment.

(2) Microcomputer diskette. (i) Optional specification. If an air carrier desires to use its personal computers (PC's), rather than mainframe or minicomputers to prepare its data submissions, the following specifications for filing data on diskette media apply.

(ii) Reporting medium. Microcomputer ADP data submission of T-100 information must be on IBM compatible disks. Carriers wishing to use a different ADP procedure must obtain written approval to do so from the BTS Assistant Director—Airline Information. Requests for approval to use alternate methods must disclose and describe the proposed data transmission methodology. Refer to paragraph (i) of this appendix for microcomputer record layouts.

(iii) Microcomputer file characteristics. The files will be created in ASCII delimited format, sometimes called Data Interchange Format (DIF). This form of recording data provides for variable length fields (data elements) which, in the case of alphabetic data, are enclosed by quotation marks (“) and separated by a comma (,) or tab. Numeric data elements that are recorded without editing symbols are also separated by a comma (,) or tab. The data are identified by their juxtaposition within a given record. Therefore, each record must contain the exact number of data elements, all of which must be juxtapositionally correct. Personal computer software including most spreadsheets, data base management programs, and BASIC are capable of producing files in this format.

(b) Filing date for reports. The reports must be received at BTS within 30 days following the end of each reporting period.

(c) Address for filing. Data Administration Division, K-14, Room 4125, Office of Airline Information, Bureau of Transportation Statistics, U.S. Department of Transportation, 400 Seventh Street SW., Washington, DC 20590-0001.

(d) ADP format for magnetic tape.

(1) Magnetic tape specifications. IBM compatible 9-track EBCDIC recording. Recording density of 6250 or 1600 bpi. The order of recorded information is:

(i) Volume label.

(ii) Header label.

(iii) Data records.

(iv) Trailer label.

(2) [Reserved]

(e) External tape label information.

(1) Carrier name.

(2) Report date.

(3) File identification.

(4) Carrier address for return of tape reel.

(f) Standards. It is the policy of the Department to be consistent with the American National Standards Institute and the Federal Standards Activity in all data processing and telecommunications matters. It is our intention that all specifications in this application are in compliance with standards promulgated by these organizations.

(g) Volume, header, and trailer label formats.

(1) Use standard IBM label formats. The file identifier field of the header labels should be “T-100.SYSTEM”.

(h) Magnetic tape record layouts for T-100.

(1) Nonstop segment record layout.

Field No. | Positions | Mode | Description
1 | 1 | 1T | Record type code (S = nonstop segment).
2 | 2-6 | 5T | Carrier entity code.
3 | 7-12 | 6T | Report date (YYYYMM).
4 | 13-15 | 3T | Origin airport code.
5 | 16-18 | 3T | Destination airport code.
6 | 19 | 1T | Service class code (F, G, L, N, P or R).
7 | 20-23 | 4T | Aircraft type code.
8 | 24-28 | 5N | Revenue departures performed (F, G, L, N, P, R510).
9 | 29-38 | 10N | Available capacity payload (lbs) (F, G, L, N, P, R270).
10 | 39-45 | 7N | Available seats (F, L, N310).
11 | 46-52 | 7N | Passengers transported (F, L, N130).
12 | 53-62 | 10N | Rev freight transported (F, G, L, N, P, R237) (in lbs).
13 | 63-72 | 10N | Revenue mail transported (F, G, L, N, P, R239) (in lbs).
14 | 73-77 | 5N | Revenue aircraft departures scheduled (F, G520).
15 | 78-87 | 10N | Rev hrs, ramp-to-ramp (F, G, L, N, P, R630) (in minutes).
16 | 88-97 | 10N | Rev hrs, airborne (F, G, L, N, P, R610) (in minutes).
T=Text.
N=Numeric.

(2) On-flight market record layout.

Field No. | Positions | Mode | Description
1 | 1 | 1T | Record type: M = on-flight market record.
2 | 2-6 | 5T | Carrier entity code.
3 | 7-12 | 4T | Report date (YYYYMM).
4 | 13-15 | 3T | Origin airport code.
5 | 16-18 | 3T | Destination airport code.
6 | 19 | 1T | Service class code (F, G, L, N, P or R).
7 | 20-26 | 7N | Total passengers in market (F, L, N110).
8 | 27-36 | 10N | Rev freight in market (F, G, L, N, P, R217) (in lbs).
9 | 37-46 | 10N | Revenue mail in market (F, G, L, N, P, R219) (in lbs).
T=Text.
N=numeric.

(i) Record layouts for microcomputer diskettes. The record layouts for diskette are generally identical to those shown for magnetic tape, with the exception that delimiters (quotation marks, tabs and commas) are used to separate fields. It is necessary that the order of fields be maintained in all records.

(1) File characteristics. The files will be created in ASCII delimited format, sometimes called Data Interchange Format (DIF). This form of recording data provides for variable length fields (data elements) which, in the case of alphabetic data, are enclosed by quotation marks (“) and separated by a comma (,) or tab. Numeric data elements that are recorded without editing symbols are also separated by a comma (,) or tab. The data are identified by their juxtaposition within a given record. Therefore, it is critical that each record contain the exact number of data elements, all of which must be juxtapositionally correct. PC software including most spreadsheets, data base management programs, and BASIC produce minidisk files in this format.

(2) File naming conventions for diskettes. For microcomputer reports, each record type should be contained in a separate DOS file on the same physical diskette. The following DOS naming conventions should be followed:

(i) Record type S = SEGMENT.DAT

(ii) Record type M = MARKET.DAT

22. Add a new subpart G to part 291 as follows:

Subpart G—Public Disclosure of Data

§ 291.60 Public disclosure of data.

(a) Detailed domestic on-flight market data and nonstop segment data, except military data, shall be made publicly available after processing. Domestic data are defined as data from air transportation operations from a place in any State of the United States, the District of Columbia, the Commonwealth of Puerto Rico and the Virgin Islands, or a U.S. territory or possession to a place in any State of the United States, the District of Columbia, the Commonwealth of Puerto Rico and the Virgin Islands, or a U.S. territory or possession. Domestic military operations are reported under service codes N or R.

(b) Detailed international on-flight market and nonstop segment data in Schedule T-100 and Schedule T-100(f) reports, except military data, shall be publicly available immediately following the Department's determination that the database is complete, but no earlier than six months after the date of the data. Military operations are reported under service codes N or R. Data for on-flight markets and nonstop segments involving no U.S. points shall not be made publicly available for three years. Industry and carrier summary data may be made public before the end of six months or the end of three years, as applicable, provided there are three or more carriers in the summary data disclosed. The Department may, at any time, publish international summary statistics without carrier detail. Further, the Department may release nonstop segment and on-flight market detail data by carrier before the end of the confidentiality period as follows:

(1) To foreign governments as provided in reciprocal arrangements between the foreign country and the U.S. Government for exchange of on-flight market and/or nonstop segment data submitted by air carriers of that foreign country and U.S. carriers serving that foreign country.

(2) To parties to any proceeding before the Department under Title IV of the Federal Aviation Act of 1958, as amended, as required by an Administrative Law Judge or other decision-maker of the Department. Parties may designate agents or consultants to receive the data in their behalf, provided the agents or consultants agree to abide by the disclosure restrictions. Any data to which access is granted pursuant to this provision may be introduced into evidence, subject to the normal rules of admissibility.

(3) To agencies or other components of the U.S. Government for their internal use only.

PART 298—[AMENDED]

23. The authority citation for part 298 is revised to read as follows:

Authority: 49 U.S.C. 329 and chapters 411 and 417.

24. Section 298.2 is amended by removing paragraph (m), by removing the alphabetic paragraph designations and placing the definitions in alphabetic order, and by adding the following new definitions in alphabetical order to read as follows:

§ 298.2 Definitions.

* * * * *

Reporting carrier for Schedule T-100 purposes means the air carrier in operational control of the flight, i.e., the carrier that uses its flight crews under its own FAA operating authority.

* * * * *

Wet-Lease Agreement means an agreement under which one carrier leases an aircraft with flight crew to another air carrier.

25. Section 298.60 is amended by revising paragraphs (a) and (b) to read as follows:

§ 298.60 General reporting instructions.

(a) Each commuter air carrier and each small certificated air carrier shall file with the Department's Bureau of Transportation Statistics (BTS) the applicable schedules of BTS Form 298-C, AReport of Financial and Operating Statistics for Small Aircraft Operators' and Schedule T-100, AU.S. Air Carrier Traffic and Capacity Data by Nonstop Segment and On-Flight Market” as required by this section.

(b) A single copy of the BTS Form 298-C report shall be filed quarterly with the Office of Airline Information (OAI) for the periods ended March 31, June 30, September 30 and December 31 of each year to be received on or before May 10, August 10, November 10, and February 10, respectively. An electronic filing of the monthly Schedule T-100 is due at OAI within 30 days after the end of each month. Due dates falling on a Saturday, Sunday or Federal holiday will become effective on the next work day.

* * * * *

26. Section 298.61 is revised to read as follows:

§ 298.61 Reporting of traffic statistics.

(a) Each commuter air carrier and small certificated air carrier shall file Schedule T-100, AU.S. Air Carrier Traffic and Capacity Data by Nonstop Segment and On-Flight Market.”

(b) Schedule T-100 shall be filed monthly as set forth in “298.60.

(1) Schedule T-100 collects summarized flight stage data and on-flight market data from revenue flights. All traffic statistics shall be compiled in terms of each flight stage as actually performed. The detail T-100 data shall be maintained in such a manner as to permit monthly summarization and organization into two basic groupings. The first grouping, the nonstop segment information, is to be summarized by equipment type, within class of service, within pair-of-points, without regard to individual flight number. The second grouping requires that the enplanement/deplanement information be broken out into separate units called on-flight market records, which shall be summarized by class of service, within pair-of-points, without regard for equipment type or flight number.

(2) Joint-service operations. The Department may authorize joint service operations between two direct air carriers. Examples of these joint-service operations are: blocked-space agreements; part-charter agreements; code-sharing agreements; wet-lease agreements, and similar arrangements.

(i) Joint-service operations are reported by the carrier in operational control of the flight, i.e., the carrier that uses its flight crews under its own FAA operating authority. The traffic moving under these agreements is reported on Schedule T-100 the same way as any other traffic on the aircraft.

(ii) If there are questions about reporting a joint-service operation, contact the BTS Assistant Director—Airline Information (fax no. 202 366-3383, telephone no. 202 366-4373). Joint-service operations are reported in Schedule T-100 in accordance with this paragraph (b).

(iii) Operational control. The air carrier in operational control of the aircraft (the carrier that uses its flight crews under its own FAA operating authority) must report joint-service operations.

(c) Service classes. (1) The statistical classifications are designed to reflect the operating characteristics attributable to each distinctive type of service offered. The combination of scheduled and nonscheduled operations with passenger, all-cargo, and military services are placed into service classes as follows:

Code | Type of Service
F | Scheduled Passenger/Cargo
G | Scheduled All-Cargo
L | Nonscheduled Civilian Passenger/Cargo
P | Nonscheduled Civilian Cargo
N | Nonscheduled Military Passenger/Cargo
R | Nonscheduled Military Cargo

(2) Scheduled services include traffic and capacity elements applicable to air transportation provided pursuant to published schedules and extra sections of scheduled flights. Scheduled Passenger/Cargo (Service Class F) is a composite of first class, coach, and mixed passenger/cargo service.

(3) Nonscheduled services include all traffic and capacity elements applicable to the performance of nonscheduled aircraft charters, and other air transportation services not constituting an integral part of services performed pursuant to published flight schedules.

(d) Air transport traffic and capacity elements. (1) Within each of the service classifications, carriers shall report air transport traffic and capacity elements. The elements are reported on segment or market records as follows:

Code | Description | Segment | Market | Computed by DOT
| Carrier, carrier entity code | S | M
| Reporting period date | S | M
| Origin airport code | S | M
| Destination airport code | S | M
| Service class code | S | M
| Aircraft type code | S
110 | Revenue passengers enplaned |  | M
130 | Revenue passengers transported | S
140 | Revenue passenger-miles |  |  | CFD*
210 | Revenue cargo tons enplaned |  |  | CFD*
217 | Enplaned freight |  | M
219 | Enplaned mail |  | M
230 | Revenue tons transported |  |  | CFD*
237 | Transported freight | S
239 | Transported mail | S
240 | Revenue ton-miles |  |  | CFD*
241 | Revenue ton-miles passenger |  |  | CFD*
247 | Revenue ton-miles freight |  |  | CFD*
249 | Revenue ton-miles mail |  |  | CFD*
270 | Available capacity payload | S
280 | Available ton-miles |  |  | CFD*
310 | Available seats, total | S
320 | Available seat-miles |  |  | CFD*
410 | Revenue aircraft miles flown |  |  | CFD*
430 | Revenue aircraft miles scheduled |  |  | CFD*
501 | Inter-airport distance |  |  | CFD*
510 | Revenue aircraft departures performed | S
520 | Revenue aircraft departures scheduled | S
610 | Revenue aircraft hours (airborne) | S
630 | Aircraft hours (ramp-to-ramp) | S
650 | Total aircraft hours (airborne) | S
*CFD = Computed by DOT from detail Schedule T-100 and T-100(f) data.

(2) [Reserved]

(e) These reported items are further described as follows:

(1) Reporting period date. The year and month to which the reported data are applicable.

(2) Carrier, Carrier entity code. Each air carrier shall report its name and entity code (a five digit code assigned by BTS that identifies both the carrier and its entity) for its particular operations. The Office of Airline Information (OAI) will assign or confirm codes upon request; OAI's address is Office of Airline Information, BTS, DOT Room 4125, K-14, 400 Seventh Street, SW., Washington, DC 20590-0001.

(3) Service class code. The service class codes are prescribed in section 298.61(c). In general, classes are divided into two broad categories, either scheduled or nonscheduled, where scheduled = F + G and nonscheduled = L + N + P + R.

(4) Record type code. This code indicates whether the data pertain to non-stop segment (record type S) or on-flight market (record type M).

(5) Aircraft type code. This code represents the aircraft types, as described in the BTS' Accounting and Reporting Directives.

(6) Origin, Destination airport code(s). These codes represent the industry designators. An industry source of these industry designator codes is the Official Airline Guide (OAG). OAI assigns codes upon request if not listed in the OAG.

(7) 110 Revenue passengers enplaned. The total number of revenue passengers enplaned at the origin point of a flight, boarding the flight for the first time; an unduplicated count of passengers in a market. Under the T-100 system of reporting, these enplaned passengers are the sum of the passengers in the individual on-flight markets. In the domestic entity, report only the total revenue passengers enplaned in item 110.

(8) 130 Revenue passengers transported. The total number of revenue passengers transported over a single flight stage, including those already on the aircraft from a previous flight stage. In the domestic entity, report only the total revenue passengers transported in item 130.

(9) 140 Revenue passenger-miles. Computed by multiplying the inter-airport distance of each flight stage by the number of passengers transported on that flight stage.

(10) 210 Revenue cargo tons enplaned. The total number of cargo tons enplaned. This data element is a sum of the individual on-flight market figures for each of the following categories: 217 Freight and 219 Mail. This element represents an unduplicated count of the revenue traffic in a market.

(11) 217 Enplaned freight. The total weight of revenue freight enplaned at the origin point of a flight, loaded onto the flight for the first time; an unduplicated count of freight in a market.

(12) 219 Enplaned mail. The total weight of mail enplaned at the origin point of a flight, loaded onto the flight for the first time; an unduplicated count of mail in a market.

(13) 230 Revenue tons transported. The number of tons of revenue traffic transported. This element is the sum of the following elements: 231 Passengers transported-total, 237 Freight, and 239 Mail.

(14) 237 Transported freight. The total weight of freight transported over a single flight stage, including freight already on the aircraft from a previous flight stage.

(15) 239 Transported mail. The total weight of mail transported over a single flight stage, including mail already on the aircraft from a previous flight stage.

(16) 240 Revenue ton-miles—total. Ton-miles are computed by multiplying the revenue aircraft miles flown (410) on each flight stage by the number of tons transported on that stage. This element is the sum of 241 through 249.

(17) 241 Revenue ton-miles—passenger. Equals the number of passengers times 200, times inter-airport distance, divided by 2000. A standard weight of 200 pounds per passenger, including baggage, is used for all operations and service classes.

(18) 247 Revenue ton-miles—freight. Equals the volume of freight in whole tons times the inter-airport distance.

(19) 249 Revenue ton-miles—mail. Equals the volume of mail in whole tons times the inter-airport distance.

(20) 270 Available capacity-payload. The available capacity is collected in pounds. This figure shall reflect the payload or total available capacity for passengers, mail, and freight applicable to the aircraft with which each flight stage is performed.

(21) 280 Available ton-miles. The aircraft miles flown on each flight stage multiplied by the available capacity on the aircraft in tons.

(22) 310 Available seats. The number of seats available for sale. This figure reflects the actual number of seats available, excluding those blocked for safety or operational reasons. In the domestic entity, report the total available seats in item 130. Scheduled and nonscheduled available seats are reported in item 130.

(23) 320 Available seat-miles. The aircraft miles flown on each flight stage multiplied by the seat capacity available for sale.

(24) 410 Revenue aircraft miles flown. Revenue aircraft miles flown are computed based on the airport pairs between which service is actually performed; miles are generated from the data for scheduled aircraft departures (Code 520) times the inter-airport distances (Code 501).

(25) 430 Revenue aircraft miles scheduled. The number of revenue aircraft miles scheduled. All such data shall be maintained in conformity with the airport pairs between which service is scheduled, whether or not in accordance with actual performance.

(26) 501 Inter-airport distance. The great circle distance, in official statute miles as prescribed in part 247 of this chapter, between airports served by each flight stage. Official inter-airport mileage may be obtained from the Office of Airline Information.

(27) 510 Revenue aircraft departures performed. The number of revenue aircraft departures performed.

(28) 520 Revenue aircraft departures scheduled. The number of revenue aircraft departures scheduled, whether or not actually performed.

(29) 610 Revenue aircraft hours (airborne). The elapsed time, computed from the moment the aircraft leaves the ground until its next landing.

(30) 630 Aircraft hours (ramp-to-ramp). The elapsed time, computed from the moment the aircraft first moves under its own power from the boarding ramp at one airport to the time it comes to rest at the ramp for the next point of landing. This data element is also referred to as ‘block’ and ‘block-to-block’ aircraft hours.

(31) 650 Total aircraft hours (airborne). The elapsed time, computed from the moment the aircraft leaves the ground until it touches down at the next landing. This includes flight training, testing, and ferry flights.

(f) Public availability of Schedule T-100 data. Detailed domestic on-flight market and nonstop segment data in Schedule T-100, except military data, shall be publicly available after processing. Domestic data are defined as data from air transportation operations from a place in any State of the United States, the District of Columbia, the Commonwealth of Puerto Rico and the Virgin Islands, or a U.S. territory or possession to a place in any State of the United States, the District of Columbia, the Commonwealth of Puerto Rico and the Virgin Islands, or a U.S. territory or possession.

Appendix to § 298.61—Instructions to U.S. Air Carriers for Reporting Traffic and Capacity Data on Schedule T-100

(a) Format of reports.

(1) Automatic Data Processing (ADP) magnetic tape. Refer to paragraph (f) of this appendix for instructions pertaining to mainframe and minicomputer reporting. The Department will issue “Accounting and Reporting Directives” to make necessary technical changes to these T-100 instructions. Technical changes which are minor in nature do not require public notice and comment.

(2) Microcomputer diskette.

(i) Optional specification. If an air carrier desires to use its personal computers (PC's), rather than mainframe or minicomputers to prepare its data submissions, the following specifications for filing data on diskette media apply.

(ii) Reporting medium. Microcomputer ADP data submission of T-100 information must be on IBM compatible disks. Carriers wishing to use a different ADP procedure must obtain written approval to do so from the BTS Assistant Director—Airline Information. Requests for approval to use alternate methods must disclose and describe the proposed data transmission methodology. Refer to paragraph (k) of this appendix for microcomputer record layouts.

(iii) Microcomputer file characteristics. The files will be created in ASCII delimited format, sometimes called Data Interchange Format (DIF). This form of recording data provides for variable length fields (data elements) which, in the case of alphabetic data, are enclosed by quotation marks (“) and separated by a comma (,) or tab. Numeric data elements that are recorded without editing symbols are also separated by a comma (,) or tab. The data are identified by their juxtaposition within a given record. Therefore, each record must contain the exact number of data elements, all of which must be juxtapositionally correct. Personal computer software including most spreadsheets, data base management programs, and BASIC are capable of producing files in this format.

(b) [Reserved]

(c) [Reserved]

(d) Filing date for reports. The reports must be received at BTS within 30 days following the end of each reporting period.

(e) Address for filing. Data Administration Division, K-14, Room 4125, Office of Airline Information, Bureau of Transportation Statistics, U.S. Department of Transportation, 400 Seventh Street SW., Washington, DC 20590-0001.

(f) ADP format for magnetic tape.

(1) Magnetic tape specifications. IBM compatible 9-track EBCDIC recording. Recording density of 6250 or 1600 bpi. The order of recorded information is:

(i) Volume label.

(ii) Header label.

(iii) Data records.

(iv) Trailer label.

(g) External tape label information.

(1) Carrier name.

(2) Report date.

(3) File identification.

(4) Carrier address for return of tape reel.

(h) Standards. It is the policy of the Department to be consistent with the American National Standards Institute and the Federal Standards Activity in all data processing and telecommunications matters. It is our intention that all specifications in this application are in compliance with standards promulgated by these organizations.

(i) Volume, header, and trailer label formats.

(1) Use standard IBM label formats. The file identifier field of the header labels should be “T-100.SYSTEM”.

(2) [Reserved]

(j) Magnetic tape record layouts for T-100.

(1) Nonstop segment record layout.

Field No. | Positions | Mode | Description
1 | 1 | 1T | Record type code (S = nonstop segment).
2 | 2-6 | 5T | Carrier entity code.
3 | 7-12 | 6T | Report date (YYYYMM).
4 | 13-15 | 3T | Origin airport code.
5 | 16-18 | 3T | Destination airport code.
6 | 19 | 1T | Service class code (F, G, L, N, P or R).
7 | 20-23 | 4T | Aircraft type code.
8 | 24-28 | 5N | Revenue departures performed (F, G, L, N, P, R510).
9 | 29-38 | 10N | Available capacity payload (lbs) (F, G, L, N, P, R270).
10 | 39-45 | 7N | Available seats (F, L, N310).
11 | 46-52 | 7N | Passengers transported (F, L, N130).
12 | 53-62 | 10N | Rev freight transported (F, G, L, N, P, R237)(in lbs).
13 | 63-72 | 10N | Revenue mail transported (F, G, L, N, P, R239) (in lbs).
14 | 73-77 | 5N | Revenue aircraft departures scheduled (F, G520).
15 | 78-87 | 10N | Rev hrs, ramp-to-ramp (F, G, L, N, P, R630) (in minutes).
16 | 88-97 | 10N | Rev hrs, airborne (F, G, L, N, P, R610) (in minutes).
T=Text.
N=Numeric.

(2) On-flight market record layout.

Field No. | Positions | Mode | Description
1 | 1 | 1T | Record type: M = on-flight market record.
2 | 2-6 | 5T | Carrier entity code.
3 | 7-12 | 6T | Report date (YYYYMM).
4 | 13-15 | 3T | Origin airport code.
5 | 16-18 | 3T | Destination airport code.
6 | 19 | 1T | Service class code (F, G, L, N, P or R).
7 | 20-26 | 7N | Total passengers in market (F, L, N110).
8 | 27-36 | 10N | Rev freight in market (F, G, L, N, P, R217) (in lbs).
9 | 37-46 | 10N | Revenue mail in market (F, G, L, N, P, R219) (in lbs).
T=Text.
N=Numeric.

(k) Record layouts for microcomputer diskettes. The record layouts for diskette are generally identical to those shown for magnetic tape, with the exception that delimiters (quotation marks and commas) are used to separate fields. It is necessary that the order of fields be maintained in all records.

(1) File characteristics. The files will be created in ASCII delimited format, sometimes called Data Interchange Format (DIF). This form of recording data provides for variable length fields (data elements) which, in the case of alphabetic data, are enclosed by quotation marks (“) and separated by a comma (,) or tab. Numeric data elements that are recorded without editing symbols are also separated by a comma (,) or tab. The data are identified by their juxtaposition within a given record. Therefore, it is critical that each record contain the exact number of data elements, all of which must be juxtapositionally correct. PC software including most spreadsheets, data base management programs, and BASIC produce minidisks files in this format.

(2) File naming conventions for diskettes. For microcomputer reports, each record type should be contained in a separate DOS file on the same physical diskette. The following DOS naming conventions shall be followed:

(i) Record type S = SEGMENT.DAT

(ii) Record type M = MARKET.DAT

27. Section 298.62 is amended by revising paragraph (d) to read as follows:

§ 298.62 Reporting of financial data.

* * * * *

(d) Data reported on this schedule shall be withheld from public release for a period of 3 years after the close of the calendar quarter to which the report relates.

28. Section 298.63 is amended by removing paragraphs (h) and (i) and redesignating paragraph (j) as paragraph (h) and revising it to read as follows:

§ 298.63 Reporting of aircraft operating expenses and related statistics by small certificated air carriers.

* * * * *

(h) Line 17 “Total Gallons of Fuel Issued” shall include the gallons of fuel used in flight operations related to fuel cost reported in total and by aircraft type on Line 4.

§ 298.64 [Removed]

29. Section 298.64 is removed.

30. Add a new subpart G consisting of § 298.70 to part 298 to read as follows:

Subpart G—Public Disclosure of Data

§ 298.70 Public disclosure of data.

(a) Detailed domestic on-flight market data and nonstop segment data except military data shall be made publicly available after processing. Domestic data are defined as data from air transportation operations from a place in any State of the United States, the District of Columbia, the Commonwealth of Puerto Rico and the Virgin Islands, or a U.S. territory or possession to a place in any State of the United States, the District of Columbia, the Commonwealth of Puerto Rico and the Virgin Islands, or a U.S. territory or possession. Domestic military operations are reported under service codes N or R.

(b) Detailed international on-flight market and nonstop segment data in Schedule T-100 and Schedule T-100(f) reports, except military data, shall be publicly available immediately following the Department's determination that the database is complete, but no earlier than six months after the date of the data. Military operations are reported under service codes N or R. Data for on-flight markets and nonstop segments involving no U.S. points shall not be made publicly available for three years. Industry and carrier summary data may be made public before the end of six months or the end of three years, as applicable, provided there are three or more carriers in the summary data disclosed. The Department may, at any time, publish international summary statistics without carrier detail.

(c) Schedule F-1 “Report of Financial Data” shall be withheld from public release for a period of 3 years after the close of the calendar quarter to which the report relates.

(d) The Department may release nonstop segment and on-flight market detail data by carrier or individual Schedule F-1 “Report of Financial Data” before the end of the confidentiality period as follows:

(1) To foreign governments as provided in reciprocal arrangements between the foreign country and the U.S. Government for exchange of on-flight market and/or nonstop segment data submitted by air carriers of that foreign country and U.S. carriers serving that foreign country.

(2) To parties to any proceeding before the Department under Title IV of the Federal Aviation Act of 1958, as amended, as required by an Administrative Law Judge or other decision-maker of the Department. Parties may designate agents or consultants to receive the data in their behalf, provided the agents or consultants agree to abide by the disclosure restrictions. Any data to which access is granted pursuant to this provision may be introduced into evidence, subject to the normal rules of admissibility.

(3) To agencies or other components of the U.S. Government for their internal use only.

Issued in Washington, DC, on June 19, 2002.
Ashish Sen,
Director, Bureau of Transportation Statistics.

[FR Doc. 02-15978 Filed 7-29-02; 8:45 am]

BILLING CODE 4910-62-P